DEPARTMENT OF LABOR

Mine Safety and Health Administration

Petitions for Modification

AGENCY: Mine Safety and Health Administration, Labor.

ACTION: Notice of petitions for modification of existing mandatory safety standards.

SUMMARY: Section 101(c) of the Federal Mine Safety and Health Act of 1977 and 30 CFR part 44 govern the application, processing, and disposition of petitions for modification. This notice is a summary of petitions for modification filed by the parties listed below to modify the application of existing mandatory safety standards published in Title 30 of the Code of Federal Regulations.

DATES: Comments on the petitions must be received by the Office of Standards, Regulations, and Variances on or before August 17, 2007.

ADDRESSES: You may submit your comments, identified by “docket number” on the subject line, by any of the following methods:

1. E-Mail: Standards-Petitions@dol.gov.

2. Telefax: 1-202-693-9441.

3. Hand-Delivery or Regular Mail: Submit comments to the Mine Safety and Health Administration (MSHA), Office of Standards, Regulations, and Variances, 1100 Wilson Boulevard, Room 2349, Arlington, Virginia 22209, Attention: Patricia W. Silvey, Director, Office of Standards, Regulations, and Variances.

We will consider only comments postmarked by the U.S. Postal Service or proof of delivery from another delivery service such as UPS or Federal Express on or before the deadline for comments. Individuals who submit comments by hand-delivery are required to check in at the receptionist desk on the 21st floor.

Individuals may inspect copies of the petitions and comments during normal business hours at the address listed above.

FOR FURTHER INFORMATION CONTACT: Edward Sexauer, Chief, Regulatory Development Division at 202-693-9444 (Voice), sexauer.edward@dol.gov (E-mail), or 202-693-9441 (Telefax), or contact Barbara Barron at 202-693-9447 (Voice), barron.barbara@dol.gov (E-mail), or 202-693-9441 (Telefax). [These are not toll-free numbers].

SUPPLEMENTARY INFORMATION:

I. Background

Section 101(c) of the Federal Mine Safety and Health Act of 1977 (Mine Act) allows the mine operator or representative of miners to file a petition to modify the application of any mandatory safety standard to a coal or other mine if the Secretary determines that: (1) An alternative method of achieving the result of such standard exists which will at all times guarantee no less than the same measure of protection afforded the miners of such mine by such standard; or (2) that the application of such standard to such mine will result in a diminution of safety to the miners in such mine. In addition, the regulations at 30 CFR 44.10 and 44.11 establish the requirements and procedures for filing petitions for modifications.

II. Petitions for Modification

Docket Number: M-2007-037-C.

Petitioner: Mallie Coal Company, Inc., 8442 Hwy. 6, Corbin, Kentucky 40701.

Mine: Mine No. 7, (MSHA I.D. No. 15-19007), located in Knox County, Kentucky.

Regulation Affected: 30 CFR 75.380(f)(4)(i) (Escapeways; bituminous and lignite mines).

Modification Request: The petitioner requests a modification of the existing standard to permit an alternative method for the use of mobile equipment traveling in the primary escapeway. The petitioner asserts that technology has not developed a fire suppression system that will fit on the type of equipment used in this mine, which has an average coal seam of 28 inches. The petitioner proposes to use one ten pound or two five pound portable chemical fire extinguishers on each Mescher Jeep used at the Mine. If two extinguishers are used, one five pound extinguisher will be mounted in the operators' deck with the other mounted on the jeep accessible to the operator. If one extinguisher is used, it will be mounted in the operators' deck. In either case, the petitioner proposes to use a total of ten pounds of fire extinguisher capability on each Mescher Jeep, which will be readily accessible to the operator. The petitioner states that: (1) The equipment operator will inspect each fire extinguisher daily before entering the primary escapeway; and (2) a record of the inspections will be maintained; and (3) defective fire extinguishers will be replaced prior to entering the mine. The petitioner further states that: (1) The main travelway of the mine is also the primary escapeway; (2) the amount of time each Mescher Jeep is in the primary escapeway is limited to the travel time to the face at the start of the shift, and at mid-shift, to change batteries, and travel out at the end of the shift during which time the drag bucket is empty and the tractor is not transporting coal; (3) employees who operate the Mescher Jeeps in the primary escapeway have been properly trained in the daily inspection of fire extinguishers installed on the equipment they operate; and (4) the employees have been trained to properly operate the fire extinguishers should it become necessary to extinguish a fire on the equipment they operate. The petitioner also states that it is likely that the application of the existing standard would reduce the safety of the affected miners, since fire suppression equipment is not presently available for this type of equipment, and currently, technology does not provide fire suppression equipment for the type of machinery used at the Mine No. 7. The petitioner asserts that the proposed alternative method would provide at least the same measure of protection as the existing standard.

Docket Number: M-2007-038-C.

Petitioner: Mallie Coal Company, Inc., 8442 Hwy. 6, Corbin, Kentucky 40701.

Mine: Mine No. 7, (MSHA I.D. No. 15-19007), located in Knox County, Kentucky.

Regulation Affected: 30 CFR 75.342 (Methane monitors).

Modification Request: The petitioner requests a modification of the existing standard to permit the use of hand-held continuous-duty methane and oxygen indicators in lieu of machine-mounted methane monitors on three-wheel tractors with drag bottom buckets. The petitioner states that: (1) The operator will be qualified to use the hand-held detectors; (2) a gas test will be taken to determine if any methane concentration is present in the atmosphere prior to allowing the coal-loading tractor in the face area; (3) if one percent (1%) of methane is detected, the operator will manually de-energize his/her battery operated tractor immediately, production will immediately cease, work will be performed to eliminate the elevated methane levels, and production will resume when the methane has been lowered to less than one percent; (4) a spare continuous-duty hand-held methane and oxygen detector will be available to ensure that all coal hauling tractors are equipped with a working detector; and (5) the monitors will be inspected daily and fully charged, calibrated at least every 30 days, and will not be changed from manufacturer's specifications unless by a person qualified to do so. The petitioner asserts that application of the existing standard reduces protection and the proposed alternative method would greatly increase the safety and well being of miners.

Docket Number: M-2007-039-C.

Petitioner: Mountain Coal Company, LLC, 5174 Highway 133, Somerset, Colorado 81434.

Mine: West Elk Mine, (MSHA I.D. No. 05-03672), located in Gunnison County, Colorado.

Regulation Affected: 30 CFR 75.380(d)(4) (Escapeway; bituminous and lignite mines).

Modification Request: The petitioner requests an amendment to its previous petition for modification, docket number M-94-023-C, to increase the affected distance in the belt entry from 1,050 feet to 2,300 feet with the same terms and conditions as its previously approved petition. The petitioner asserts that application of the existing standard will result in a diminution of safety to the miners and that application of the approved terms and conditions of the previous petition will at all times provide a safe work environment to the miners. In addition, the petitioner asserts that the requested amendment will provide at least as much protection as the previously granted petition.

Docket Number: M-2007-040-C.

Petitioner: UAE CoalCorp Associates, One Harmony Road, P.O. Box 0306, Mount Carmel, Pennsylvania.

Mine: Harmony Mine, (MSHA I.D. No. 36-07838), located in Columbia County, Pennsylvania.

Regulation Affected: 30 CFR 75.1400 (Hoisting equipment; general).

Modification Request: The petitioner requests a modification of the existing standard for its anthracite coal mine to permit the use of the slope (gunboat) to transport persons in shafts and slopes using an increased rope strength/safety factor and secondary safety rope connection instead of using safety catches or other no less effective devices. The petitioner asserts that: (1) A functional safety catch capable of working in slopes with knuckles or curves is not commercially available; (2) a makeshift device would be activated on or by knuckles or curves when no emergency exists; and (3) activation of a safety catch can or will damage the haulage system and subject persons being transported to hazards from dislodged timbering, roof material or guide rails, and being battered about within the conveyance. The petitioner asserts that the proposed alternative method would provide at least the same measure of protection as the existing standard.

Docket Number: M-2007-041-C.

Petitioner: Brooks Run Mining Company, LLC, 25 Little Birch Road, Sutton, West Virginia 25601.

Mine: Cucumber Mine, (MSHA I.D. No. 46-09066), located in McDowell County, West Virginia.

Regulation Affected: 30 CFR 75.503 (Permissible electric face equipment; maintenance).

Modification Request: The petitioner requests a modification of the existing standard to permit mining on a complete line of pillars without having to tram the Mine Roof Supports (MRS) units around the pillars. The petitioner states that: (1) This petition will apply only to trailing cables that are at least a No. 6 American Wire Gauge and have a 90 degree insulation rating to supply 575-volt three-phase alternating current to mobile roof supports; (2) the size of the trailing cable will be according to the equipment approval documentation and the maximum cable length will not exceed 800 feet; (3) all circuit breakers used to protect the trailing cables exceeding 600 feet in length will have instantaneous trip units calibrated to trip at 300 amperes; (4) each trip setting of the circuit breakers will be sealed and the circuit breakers will have permanent, legible labels to identify the circuit breaker as being suitable for protecting the cables; (5) during each production day, a person designated by the operator will visually examine the trailing cables to ensure that the cables are in safe operating condition and visually examine the instantaneous settings of the specially calibrated breakers to ensure that the seals have not been removed or tampered with or do not exceed the settings; (6) warning labels will be installed and properly maintained permanently on the cover(s) of the power center or distribution box identifying the location of each sealed short circuit protective device; (7) back-spooling and temporary discharging points shall be limited; and (8) Part 48 training plan will be revised to include additional training. The petitioner further states that labels will warn miners not to change or alter the sealed short circuit settings. The petitioner asserts that the proposed alternative method would provide at least the same measure of protection as the existing standard.

Docket Number: M-2007-042-C.

Petitioner: Blue Diamond Coal Company, P.O. Box 47, Slemp, Kentucky 41763.

Mine: Mine # 75, MSHA I.D. No. 15-17478, located in Perry County, Kentucky.

Regulation Affected: 30 CFR 75.364(b)(2) (Weekly examination).

Modification Request: The petitioner requests a modification of the existing standard to permit check points (examination points) for air volume and quality to be established in two locations of the Return Mains due to water accumulations in these areas that prevent foot travel. The petitioner proposes to establish examination points at certain points to evaluate airflow entering the 2nd Return Mains and exiting the 2nd Return Mains. The petitioner also proposes to establish ventilation check points between certain breaks of the 2nd Return Mains near the installed man doors and in the cut-through of certain breaks in the 2nd Return Mains. The petitioner states that due to water accumulations and the distance from active works, it is impractical to expose personnel to traveling the affected area. The petitioner describes additional safety precautions, such as, signage and establishing and monitoring air measurement stations, at locations that would allow a certified person to effectively evaluate ventilation in the affected areas of the mine. The petitioner has listed specific additional procedures in this petition that will be used to comply with the proposed alternative method. Individuals may review a complete description of the procedures at the MSHA address listed in this notice. The petitioner asserts that this petition for modification will provide no less protection than the existing standard.

Dated: July 12, 2007.
Jack Powasnik,
Acting Deputy Director, Office of Standards, Regulations, and Variances.

[FR Doc. E7-13921 Filed 7-17-07; 8:45 am]

BILLING CODE 4510-43-P